DEPARTMENT OF ENERGY

Federal Energy Regulatory Commission

Combined Notice of Filings

Take notice that the Commission has received the following Natural Gas Pipeline Rate and Refund Report filings:

Docket Numbers: RP21-468-000.

Applicants: Gulf South Pipeline Company, LLC.

Description: § 4(d) Rate Filing: Third GMS Filing—Intermediate to be effective 3/12/2021.

Filed Date: 2/10/21.

Accession Number: 20210210-5033.

Comments Due: 5 p.m. ET 2/22/21.

Docket Numbers: RP21-469-000.

Applicants: Chevron U.S.A. Inc., Noble Energy, Inc.

Description: Joint Petition For Temporary Waiver, et al. of Noble Energy, Inc., et al. under RP21-469.

Filed Date: 2/10/21.

Accession Number: 20210210-5133.

Comments Due: 5 p.m. ET 2/15/21.

Docket Numbers: RP21-470-000.

Applicants: Guardian Pipeline, L.L.C.

Description: § 4(d) Rate Filing: Negotiated Rate PAL Amendments—Clearwater & Mercuria to be effective 2/10/2021.

Filed Date: 2/10/21.

Accession Number: 20210210-5134.

Comments Due: 5 p.m. ET 2/22/21.

Docket Numbers: RP21-471-000.

Applicants: Tourmaline Oil Corp., Tourmaline Oil Marketing Corp.

Description: Joint Petition For Temporary Waiver, et al. of Tourmaline Oil Corp., et al. under RP21-471.

Filed Date: 2/10/21.

Accession Number: 20210210-5143.

Comments Due: 5 p.m. ET 2/15/21.

Docket Numbers: RP21-472-000.

Applicants: RH energytrans, LLC.

Description: Request for Waiver of Requirement to File FL&U Percentage Adjustment of RH energytrans, LLC under RP21-472.

Filed Date: 2/10/21.

Accession Number: 20210210-5147.

Comments Due: 5 p.m. ET 2/22/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 11, 2021.
Nathaniel J. Davis, Sr.,
Deputy Secretary.

[FR Doc. 2021-03275 Filed 2-17-21; 8:45 am]

BILLING CODE 6717-01-P